NATIONAL SCIENCE FOUNDATION

Sunshine Act Meeting

The National Science Board's Awards and Facilities Committee hereby gives notice of the scheduling of a teleconference meeting for the transaction of National Science Board business pursuant to the National Science Foundation Act and the Government in the Sunshine Act.

TIME AND DATE: Tuesday, December 7, 2021, from 11:30 a.m.-1:30 p.m. EST. The open session of the meeting will be held from 11:30 a.m.-12:00 p.m. The closed session will be held from 12:00 p.m.-1:30 p.m.

PLACE: This meeting will be held by teleconference through the National Science Foundation.

STATUS: Open session and closed session.

MATTERS TO BE CONSIDERED: The agenda of the open session of the meeting is: Committee Chair's Opening Remarks; approval of prior meeting minutes; schedule of context and action items; and information item—update on the Astronomy Decadal Survey Report.

The agenda for the closed session of the meeting is: Committee Chair's Opening Remarks; approval of prior meeting minutes; information item—Regional Class Research Vessels; information item—Annual Report of the Chief Officer for Research Infrastructure; action item—Rubin Observatory Rebaseline.

CONTACT PERSON FOR MORE INFORMATION: Point of contact for this meeting is: Michelle McCrackin, mmccrack@nsf.gov, (703) 292-7000. Meeting information and updates may be found at the National Science Board website www.nsf.gov/nsb.

Chris Blair,
Executive Assistant to the National Science Board Office.

[FR Doc. 2021-26440 Filed 12-2-21; 11:15 am]

BILLING CODE 7555-01-P